DEPARTMENT OF LABOR

Mine Safety and Health Administration

Proposed Information Collection Request; Submitted for Public Comment and Recommendations; Qualification/Certification Program Request for MSHA; Individual Identification Number (MIIN)

ACTION: Notice.

SUMMARY: The Department of Labor, as part of its continuing effort to reduce paperwork and respondent burden conducts a preclearance consultation program to provide the general public and Federal agencies with an opportunity to comment on proposed and/or containing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before August 31, 2007.

ADDRESSES: Send comments to, Debbie Ferraro, Management Services Division, 1100 Wilson Boulevard, Room 2171, Arlington, VA 22209-3939. Commenters are encouraged to send their comments on computer disk, or via e-mail to Ferraro.Debbie@DOL.GOV. Ms. Ferraro can be reached at (202) 693-9821 (voice), or (202) 693-9801 (facsimile).

FOR FURTHER INFORMATION CONTACT: Contact the employee listed in the ADDRESSES section of this notice.

SUPPLEMENTARY INFORMATION:

I. Background

MSHA currently uses qualification and certification information on miners who have satisfactorily completed required training and examinations to issue cards indicating the licensure of that miner. MSHA inspectors, during inspections, review these cards to determine compliance with regulations. In addition, miners, when applying for a job, use these cards as a part of their resumes. Mine operators needing people with specific certifications, qualifications and approvals hire and assign work relying on the information provided on the cards.

The information is also used to determine mine operators' compliance with approved training plans and to monitor safety-training programs and during investigations including accident and legal proceedings to revoke the qualifications/certifications and approvals of individuals based on a fraudulent reporting of training or performance. Upon request, MSHA furnishes information on specific miners to mine operators and representatives of miners.

The information also is used to verify whether individuals who complete and sign dust data cards that accompany dust samples collected fulfill the sampling requirements of 30 CFR part 70, 71 or 90. It also enables the Agency to track underground miners who show early evidence of the development of pneumoconiosis and have exercised their option to work in a low dust environment under 30 CFR part 90 to determine if they have been adequately sampled by mine operators and are in compliance with federal dust standards.

II. Desired Focus of Comments

Currently, the Mine Safety and Health Administration (MSHA) is soliciting comments concerning the proposed extension of the information collection requirement related to conversion of Social Security Numbers to MSHA Individual Identification Numbers. MSHA is particularly interested in comments that:

* Evaluate whether the proposed collection of information is necessary for the proper performance of MSHA's functions, including whether the information has practical utility;

* Evaluate the accuracy of MSHA's estimate of the burden of the proposed collection of information, including the validity of the methodology and assumptions used;

* Suggest methods to enhance the quality, utility, and clarity of the information to be collected; and

* Address the use of appropriate automated, electronic, mechanical, or other technological collection techniques or other forms of information technology, (e.g., permitting electronic submissions of responses)to minimize the burden of the collection of information on those who are to respond.

A copy of the proposed information collection request can be obtained by contacting the employee listed in the ADDRESSES section of this notice or viewed on the internet by accessing the MSHA home page (http://www.msha.gov./) and selecting “Rules and Regs”, then selecting “Fed Reg Docs.”

III. Current Actions

The Mine Safety and Health Administration (MSHA) issues certifications, qualifications and approvals (licenses) to the nation's miners to conduct specific work within the mines. Currently, Social Security Numbers (SSNs) are utilized for tracking purposes within MSHA's data processing systems, in the absence of other reliable identification systems. In an effort to reduce use of SSNs both by MSHA and third parties, MSHA is changing the process to one in which miners requiring a license or benefit from MSHA will register for an “MSHA Individual Identification Number” (MIIN). This unique number will be used in place of individual SSNs for all licensing requirements within MSHA. This new process will allow MSHA to discontinue the past practice of individuals supplying their personally identifiable information to instructors, states or other entities, which in turn supply that information to MSHA. Miners needing a license or benefit from MSHA will need to register only one time to obtain their MIINs from MSHA.

Type of Review: New Collection.

Agency: Mine Safety and Health Administration.

Title: Qualification/Certification Program Request for MSHA Individual Identification Number (MIIN).

OMB Number: 1219-0NEW.

Recordkeeping: 3 years.

Frequency: On Occasion.

Affected Public: Business or other for profit.

Total Respondents: 40,000 first year; 10,000 thereafter.

Total Responses: 40,000 first year; 10,000 thereafter.

Estimated Total Burden Hours: 3,332 first year; 2,083 second year; 833 thereafter.

Total Burden Cost (capital/startup): $10,881 first year.

Total Burden Cost (operating/ maintaining): $7,293 second year; $2,900 thereafter.

Comments submitted in response to this notice will be summarized and/or included in the request for Office of Management and Budget approval of the information collection request; they will also become a matter of public record.

Dated at Arlington, Virginia, this 26th day of June, 2007.
David L. Meyer,
Director, Office of Administration and Management.

[FR Doc. E7-12671 Filed 6-29-07; 8:45 am]

BILLING CODE 4510-43-P